DEPARTMENT OF AGRICULTURE

Farm Service Agency

Notice of Funds Availability; Tree Assistance Program for California Tree Losses Due to Wild Fires

AGENCY: Farm Service Agency, USDA.

ACTION: Notice.

SUMMARY: This notice announces the availability of $12,500,000 for the Tree Assistance Program (TAP) to compensate tree-fruit growers in disaster counties in California who had fruit tree losses as a result of the 2003 wild fires that occurred in southern California.

DATES: Applications by eligible persons may be submitted April 19, 2004 through May 28, 2004, or such other date as announced by the Deputy Administrator for Farm Programs of the Farm Service Agency (FSA).

FOR FURTHER INFORMATION CONTACT: Eloise Taylor, Chief, Compliance Branch, Production, Emergencies and Compliance Divisions, FSA/USDA, Stop 0517, 1400 Independence Avenue SW., Washington, DC 20250-0517; telephone (202) 720-9882; e-mail: Eloise_Taylor@wdc.usda.gov. and http://www.regulations.gov. Persons with disabilities who require alternative means for communication of regulatory information, (Braille, large print, audiotape, etc. should contact USDA's TARGET Center at (202) 720-2600 (voice and TDD).

SUPPLEMENTARY INFORMATION:

Background

TAP was authorized but not funded by section 10201 of the Farm Security and Rural Investment Act of 2002 (Pub. L. 107-171) (7 U.S.C. 8201) to provide assistance to eligible orchardists to replant trees, bushes and vines that were grown for the production of an annual crop and were lost due to a natural disaster. This notice sets out a special program within TAP for certain fruit tree losses due to wild fires in California. Section 102(e) of Division H of the Consolidated Appropriations Act, 2004 (Pub. L. 108-199) appropriated $12,500,000 to provide assistance under TAP to compensate tree-fruit growers in those counties that suffered losses due to the wild fires that occurred in southern California in the fall of 2003. Consistent with other subsections of the same legislation and what is understood to be Congressional intent, assistance will be limited to four counties. Assistance will be provided subject to regulations and restrictions governing the new TAP provided for in the 2002 Act. Those regulations were published March 2, 2004 (69FR9744) and are found at 7 CFR part 783. Also, the restrictions of the statute apply. They include a requirement of replanting, a limitation on payments by “person”, a limitation on acres for which relief can be claimed, a requirement that the loss be tied to a natural disaster, and others. If after the claims filed during the allowed period set out in this notice are received, and the available funds are less than the eligible claims, a proration will be made. Claims are limited to the lesser of the established practice rates or 75 percent of actual costs for eligible replantings after adjusting for normal mortality. Reimbursement for those plantings cannot exceed the reasonable cost of those replantings as determined by FSA. In addition, under current law, no “person” as defined by reference to program regulations can receive, cumulatively, for all TAP claims over the life of the program as administered pursuant to the general authority of the 2002 Act, a total of $75,000. Also, and cumulatively, no person for all TAP claims for all commodities over the life of the administration of the program can, under current law, receive benefits for losses on more than 500 acres. All other restrictions of the TAP regulations and statute apply as well. Other requirements may also apply.

Applications

Applications will be accepted until May 28, 2004, or such other date as announced by the Deputy Administrator for Farm Programs of FSA. Only producers with losses in eligible counties in California may file an application. The counties are Los Angeles, Riverside, San Diego, and San Bernardino for 2003 wild fire losses.

Application forms are available for TAP at FSA county offices or on the Internet at www.fsa.usda.gov. A complete application for TAP benefits and related supporting documentation must be submitted to the county office before the deadline.

A complete application will include all of the following:

(1) A form provided by FSA;

(2) A written estimate of the number of fruit trees lost or damaged which is prepared by the owner or someone who is a qualified expert, as determined by the FSA county committee;

(3) The number of acres on which the loss was suffered; and

(4) Sufficient evidence of the loss to allow the county committee to calculate whether an eligible loss occurred.

(5) Other information as requested or required by regulation.

Signed at Washington, DC April 27, 2004.
Michael W. Yost,
Acting Administrator, Farm Service Agency.

[FR Doc. 04-11743 Filed 5-24-04; 8:45 am]

BILLING CODE 3410-05-P